ADMINISTRATIVE COMMITTEE OF THE FEDERAL REGISTER

1 CFR Parts 9, 11, and 12

[AG Order No. 3252-2011]

Regulations Affecting Publication of the United States Government Manual

AGENCY: Administrative Committee of the Federal Register.

ACTION: Final rule.

SUMMARY: The Administrative Committee of the Federal Register, with the approval of the Attorney General, is updating its regulations for the Federal Register system to clarify that there is no requirement that the United States Government Manual (Manual) be published and distributed in a print edition. This document also eliminates the requirement to make print copies available to officials of the United States government without charge. The general public and United States government officials will continue to have free access to a redesigned online version of the Manual. Printed copies of the Manual may still be issued and would be available from the U.S. Government Bookstore. This action does not represent an increase in the burdens on agencies or the public.

DATES: This rule is effective March 7, 2011.

ADDRESSES: Docket materials are available at the Office of the Federal Register, 800 North Capitol Street, NW., Suite 700, Washington, DC 20001, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy P. Bunk, Director of Legal Affairs and Policy, Office of the Federal Register, at Fedreg.legal@nara.gov, or 202-741-6030.

SUPPLEMENTARY INFORMATION:

Background and Purpose

On June 15th, 2010, the Secretary to the Administrative Committee of the Federal Register (Administrative Committee) published a notice of proposed rulemaking (NPRM) to update the Administrative Committee's regulations to clarify that there is no requirement that United States Government Manual (Manual) be published and distributed to the general public and to officials of the Federal government in a print edition. 75 FR 33734. The NPRM also announced the development of a redesigned and more up to date Manual that will be available on the Internet through the Government Printing Office (GPO). Finally, it stated that printed copies of the Manual may still be issued and would be available from the U.S. Government Bookstore.

The Manual has been issued as a special edition of the Federal Register since the publication was transferred to the Office of the Federal Register from the Office of Government Reports within the Bureau of Budget when that Office was abolished on June 30, 1948. The first manual, the United States Government Organization Manual, produced under the authority of regulations of the Administrative Committee, was issued on August 4, 1949, and sold for $1.00 per copy. Then, as now, this publication provides agencies the mechanism for meeting the requirement of the Administrative Procedure Act to separately state and publish in the Federal Register descriptions of agency organization. 5 U.S.C. 552(a)(1)(A). Now known as the United States Government Manual (Manual), it continued to be one of the Government Printing Office's (GPO) “best sellers” until public demand for print editions began to decline in favor of more current information found on the Internet.

Discussion of Comments

We received two comments to the NPRM, the first from a law librarian asking if Federal depository libraries would still have the option of obtaining print copies of the Manual. While this rule makes it clear that there is no requirement to print copies of the Manual, the Office of the Federal Register (OFR) and the Government Printing Office (GPO) still have the flexibility to produce a printed product based on the strength of customer demand. In the near term, OFR/GPO expect that there will be sufficient demand from individuals and organizations to produce a print edition of the Manual that will continue to be available to individual patrons and institutions, through the U.S. Government Bookstore, and to libraries through the Federal Depository Library Program. In the long term, the annual print edition of the Manual may be discontinued entirely if customer demand significantly decreases. If that happens, GPO will notify the Federal depository libraries.

The second comment was submitted by a Congressional staffer who stated that he liked the soft bound edition of the Manual because it was useful as a quick reference. He also indicated that the current online version of the Manual could not be downloaded as a single PDF file that includes bookmarks. Finally, he asked if any smart phone applications related to the Manual were under development and suggested that might be a means for GPO to generate revenue.

In its present form, as an annual-only publication, some agency information published in the Manual is out of date as soon as purchasers or federal officials receive their copy. Under the new design, the Manual will be published and officially distributed as a currently updated online database. The new online version of the Manual will contain the same information as has appeared in the print edition. OFR editors will continue to review all material submitted for publication in the Manual to ensure the accuracy and integrity of the Manual. The database structure of the new electronic version of the Manual enables Federal agencies to submit updated information on an ongoing basis, as new officials take office and agency programs undergo changes. It will also enable the public and federal government officials to easily download the Manual for storage on their computers in an easy-to-use format. We believe that providing a currently updated online version will be more useful and a better quick reference than the annually updated print edition of the Manual.

As we stated in the NPRM, as long as the GPO continues to print bound editions of the Manual, it will provide Federal agencies an opportunity to order copies before printing at the rider rate. A rider rate is available before the start of printing production and represents the minimal cost of producing additional copies as a continuation of the initial printing run. After production is complete, Federal agencies and the public will be able to obtain copies from the U.S. Government Bookstore.

The Administrative Committee is not aware of any applications for smart phones currently under development. We hope that the new online version of the Manual encourages both the public and private sectors to develop applications using the information from the Manual. We believe that providing this information in an updated online version meets the administration's open government and transparency goals.

Changes to the Regulations

Under the Federal Register Act (44 U.S.C. Chapter 15), the Administrative Committee of the Federal Register (Administrative Committee), with the approval of the Attorney General, is responsible for issuing regulations governing Federal Register publications. The Administrative Committee has general authority under 44 U.S.C. 1506 to determine the manner and form for publishing the Federal Register and its special editions, including the Manual. This publication has been issued as a special edition of the Federal Register since August 4, 1949 and continued to be one of the GPO's “best sellers” until public demand for printed editions began to decline in favor of more current information found on the Internet. The Government Printing Office Electronic Information Access Enhancement Act of 1993 (44 U.S.C. chapter 41) enabled the OFR/GPO partnership to develop an annual online edition of the Manual in both text-only files and PDF files. It is now possible to publish and officially distribute the Manual as an updated online database, which represents a significant improvement over the current online edition of the Manual, which is not regularly updated or easy to navigate. In light of this improved technology and ease of online access to an updated version of the Manual, and given the decline in demand for the printed edition, the Administrative Committee, with the approval of the Attorney General, is amending its regulations to remove the requirement to publish an annual edition of the Manual. A currently updated online database that can be viewed, printed, or copied and stored on a user's computer will replace the soft bound print edition of the Manual.

Title 1 part 9 of the Code of Federal Regulations regulates the publication of the Manual. This rule revises part 9 by removing the requirement to publish an annual edition of the Manual (which is currently issued as a soft bound copy) and making other non-substantive changes to the formatting of the sections. It also makes non-substantive formatting changes to § 11.4 and substantive changes to part 12 to remove § 12.3. Under the FRA, the Administrative Committee is responsible for setting the number of official use copies of Federal Register publications that are distributed free of charge to various offices within the Federal Government. See, 44 U.S.C. 1506(4). To fulfill the requirements of the FRA, 1 CFR part 12, entitled “Official Distribution within Federal Government,” sets out the number of official copies of Federal Register publications that various Federal government entities are entitled to receive. Specifically, § 12.3 addresses the number of printed copies of the Manual available to Federal entities without charge. Because the Manual has been published in a print edition that may not adequately serve the needs of Federal officials, the OFR is publishing an online version that is continually updated throughout the year, available free of charge. The Administrative Committee believes that publishing the Manual in a free, electronic-only format to Federal officials for their official use constitutes the distribution of a Federal Register publication for official use without charge, as referred to in the FRA. Thus, the final rule removes § 12.3. These changes to parts 9, 11 and 12 will not expand any regulated community or impose any additional regulatory burden on the public.

Regulatory Analysis

We developed this rule after considering numerous statutes and executive orders related to rulemaking. Below we summarize our analyses based on these statutes and executive orders.

Executive Order 12866

This rule has been drafted in accordance with Executive Order 12866, section 1(b), “Principles of Regulation.” The Administrative Committee has determined that this rule is not a significant regulatory action as defined under section 3(f) of Executive Order 12866. The rule has not been submitted to the Office of Management and Budget under section 6(a)(3)(E) of Executive Order 12866.

Regulatory Flexibility Act

This rule will not have a significant impact on small entities since it imposes no requirements. Members of the public can access Federal Register publications free through GPO's Web site.

Federalism

This rule has no federalism implications under Executive Order 13132. It does not impose compliance costs on state or local governments or preempt state law.

Congressional Review

This rule is not a major rule as defined by 5 U.S.C. 804(2). The Administrative Committee will submit a rule report, including a copy of this rule, to each House of the Congress and to the Comptroller General of the United States as required under the congressional review provisions of the Small Business Regulatory Enforcement Fairness Act of 1986.

List of Subjects

1 CFR Part 9

Government publications, United States Government Manual.

1 CFR Part 11

Code of Federal Regulations, Federal Register, Government publications, Public Papers of Presidents of United States, United States Government Manual, Daily Compilation of.

1 CFR Part 12

Code of Federal Regulations, Federal Register, Government publications, Public Papers of Presidents of United States, United States Government Manual, Daily Compilation of.

For the reasons discussed in the preamble, under the authority at 44 U.S.C. 1506 and 1510, the Administrative Committee of the Federal Register, amends parts 9, 11, and 12 of chapter I of title 1 of the Code of Federal Regulations as set forth below:

1. Revise part 9 to read as follows:

PART 9—THE UNITED STATES GOVERNMENT MANUAL

Sec.
9.1 Publication required.
9.2 Scope.

Authority: 5 U.S.C. 552; 44 U.S.C. 1506; sec. 6, E.O. 10530, 19 FR 2709; 3 CFR, 1954-1958 Comp., p. 189.

§ 9.1 Publication required.

(a) The Director publishes a special edition of the Federal Register called “The United States Government Manual” as authorized by the Administrative Committee.

(b) The Director may update the Manual when such supplementation is considered to be in the public interest.

§ 9.2 Scope.

(a) The Manual will contain appropriate information about the Executive, Legislative, and Judicial branches of the Federal Government, which for the major Executive agencies will include—

(1) Descriptions of the agency's legal authorities, public purposes, programs, and functions;

(2) Established places and methods whereby the public may obtain information and make submittals or requests; and

(3) Lists of officials heading major operating units.

(b) The Manual will also contain brief information about quasi-official agencies and supplemental information that, in the opinion of the Director, is of enough public interest to warrant.

PART 11—[AMENDED]

2. The authority citation for part 11 continues to read as follows:

Authority: 44 U.S.C. 1506; sec. 6, E.O. 10530, 19 FR 2709, 3 CFR, 1954-1958 Comp., p. 189.

3. Revise § 11.4 as follows:

§ 11.4 The United States Government Manual.

(a) The online edition of the Manual, issued under the authority of the Administrative Committee, is available through the Government Printing Office's Web site.

(b) Copies of a bound, paper edition of the Manual may be sold at a price determined by the Superintendent of Documents under the general direction of the Administrative Committee.

PART 12—[AMENDED]

4. The authority citation for part 12 continues to read as follows:

Authority: 44 U.S.C. 1506; sec. 6, E.O. 10530, 19 FR 2709; 3 CFR, 1954-1958 Comp., p. 189.

§ 12.3 [Removed]

5. Remove § 12.3.

David S. Ferriero,
Chairman, Administrative Committee of the Federal Register.
William J. Boarman,
Member, Administrative Committee of the Federal Register.
Rosemary Hart,
Member, Administrative Committee of the Federal Register.
Eric H. Holder, Jr.,
Attorney General.
David S. Ferriero,
Archivist of the United States.

[FR Doc. 2011-2463 Filed 2-3-11; 8:45 am]

BILLING CODE 1505-02-P